DEPARTMENT OF THE INTERIOR

Fish and Wildlife Service

50 CFR Part 17

RIN 1018-AG92

Endangered and Threatened Wildlife and Plants; Designating Critical Habitat for Thlaspi californicum (Kneeland Prairie penny-cress)

AGENCY: Fish and Wildlife Service, Interior.

ACTION: Proposed rule; reopening of comment period and notice of availability of draft economic analysis.

SUMMARY: We, the U.S. Fish and Wildlife Service, announce the reopening of the comment period for the proposed designation of critical habitat for Thlaspi californicum (Kneeland Prairie penny-cress), and the availability of the draft economic analysis for this proposed designation of critical habitat. We are reopening the comment period to allow all interested parties to comment simultaneously on the proposed rule and the associated draft economic analysis. Comments previously submitted need not be resubmitted as they will be incorporated into the public record and will be fully considered in the final rule.

DATES: We will accept public comments until June 6, 2002.

ADDRESSES: Written comments and information should be submitted to Field Supervisor, Arcata Fish and Wildlife Office, U.S. Fish and Wildlife Service, 1655 Heindon Road, Arcata, CA 95521.

FOR FURTHER INFORMATION CONTACT: Field Supervisor, Arcata Fish and Wildlife Office, at telephone: 707/822-7201; facsimile: 707/822-8411.

SUPPLEMENTARY INFORMATION:

Background

Thlaspi californicum is a perennial member of the mustard family (Brassicaceae). The species grows from 9.5 to 12.5 centimeters (3.7 to 4.9 inches) tall with a basal cluster of green to purplish, sparsely toothed leaves. Leaves borne along the stem are sessile (without a stalk) with entire to toothed margins. The white flowers have strongly ascending flower stalks. Thlaspi californicum flowers from April to June. The fruit is a sharply pointed silicle (a short fruit typically no more than two to three times longer than wide), and is elliptic to obovate, without wings, and with an ascending stalk.

Thlaspi californicum is endemic to serpentine soils in Kneeland Prairie, located in the outer north coast range of Humboldt County, California. Serpentine soils are derived from ultramafic rocks (rocks with unusually large amounts of magnesium and iron). The entire known distribution of T. californicum occurs on Ashfield Ridge at elevations ranging from 792 to 841 meters (m) [2,600 to 2,760 feet (ft)].

The only known occurrence of Thlaspi californicum includes five relatively distinct groups of plants all located within 300 m (980 ft) of each other. The species occupies an area divided by the Kneeland Airport and Mountain View Road. The known population consists of approximately 5,300 individuals. The five colonies occupy an estimated 0.3 ha (0.8 ac).

Historically, several land use activities may have altered the distribution and abundance of Thlaspi californicum colonies. These activities included construction of the county road in the 1800s (currently Mountain View Road), the Kneeland Airport in 1964, and the California Department of Forestry & Fire Protection (CDFFP) helitack base in 1980. Currently, potential threats to T. californicum include small population size; expansion of Kneeland Airport and CDFFP helitack base; road realignment; catastrophic events; and spread of exotic species.

On June 17, 1999, our failure to issue a final rule and to make a critical habitat determination for Thlaspi californicum was challenged in Southwest Center for Biological Diversity and California Native Plant Society v. Babbitt (Case No. C99-2992 (N.D.Cal.). Pursuant to the Endangered Species Act of 1973, as amended (Act) (16 U.S.C. 1531 et seq.), T. californicum was listed as an endangered species on February 9, 2000 (65 FR 6332). On October 24, 2001, the proposed rule to designate critical habitat for Thlaspi californicum was published in the Federal Register (66 FR 53756). The original comment period closed on December 24, 2001. We are reopening the comment period for an additional 30 days to allow all interested parties to comment simultaneously on the proposed rule and the associated draft economic analysis.

We proposed to designate critical habitat in one critical habitat unit that includes approximately 30 ha (74 ac), surrounding Kneeland Airport and bisected by Mountain View Road. This unit includes all five known plant colonies and all other serpentine outcrops in close proximity to the colonies. All of the proposed critical habitat for Thlaspi californicum is located on Ashfield Ridge in Kneeland Prairie, Humboldt County, California. Critical habitat receives protection from destruction or adverse modification through required consultation under section 7 of the Act with regard to actions carried out, funded, or authorized by a Federal agency. Section 4(b)(2) of the Act requires that we designate or revise critical habitat based upon the best scientific and commercial data available, after taking into consideration the economic impact of specifying any particular area as critical habitat. Based upon the previously published proposal to designate critical habitat for T. californicum, we have prepared a draft economic analysis of the proposed critical habitat designation. The draft economic analysis is available on the Internet and from the mailing addresses in the Public Comments Solicited section below.

Public Comments Solicited

We will accept written comments and information during this comment period. If you wish to comment, you may submit written comments and materials concerning this proposal by any of several methods:

(1) You may submit written comments and information to the Field Supervisor, Arcata Fish and Wildlife Office, 1655 Heindon Road, Arcata, CA 95521.

(2) You may send comments by electronic mail (e-mail) to: FW1_kneelandpennycress@fws.gov. If you submit comments by e-mail, please submit them as an ASCII file and avoid the use of special characters and any form of encryption. Please also include “Attn: RIN 1018-AG92” and your name and return address in your e-mail message. If you do not receive a confirmation from the system that we have received your e-mail message, contact us directly by calling our Arcata Fish and Wildlife Office at telephone number 707/822-7201.

(3) You may hand-deliver comments to our Arcata Fish and Wildlife Office at the above address.

Comments and materials received, as well as supporting documentation used in preparation of the proposal to designate critical habitat, will be available for inspection, by appointment, during normal business hours at the address under (1) above. Copies of the draft economic analysis are available on the Internet at “www.r1.fws.gov/news” or by writing to the Field Supervisor at the address under (1) above.

References Cited

A complete list of all references cited herein, as well as others, is available upon request from the Ventura Fish and Wildlife Office (see ADDRESSES section).

Author

The primary author of this notice is Robin Hamlin, Fish and Wildlife Biologist, at the above Arcata address.

Authority: The authority for this action is the Endangered Species Act of 1973 (16 U.S.C. 1531 et seq.).

Dated: April 24, 2002.
Craig Manson,
Assistant Secretary for Fish and Wildlife and Parks.

[FR Doc. 02-11002 Filed 5-6-02; 8:45 am]

BILLING CODE 4310-55-P